DEPARTMENT OF THE INTERIOR

Bureau of Land Management

[AK-931-1310-DP-NPRA]

Notice of Availability and Announcement of Public Subsistence-Related Hearing Schedule; Northwest National Petroleum Reserve-Alaska Draft Integrated Activity Plan/Environmental Impact Statement

AGENCY: Bureau of Land Management, Interior.

ACTION: Notice.

SUMMARY: The Bureau of Land Management (BLM) announces the availability of the Northwest National Petroleum Reserve-Alaska Draft Integrated Activity Plan/Environmental Impact Statement (IAP/EIS). The planning area is roughly bounded by the Ikpikpuk River to the east. The southern boundary extends along a portion of the Colville River and then proceeds along township and sections lines generally in a north and west direction to the west to the boundary of the NPR-A. It then proceeds due north to Icy Cape on the Arctic Ocean and proceeds east along the Arctic coastline encompassing the bays, lagoons, inlets, and tidal waters between the NPR-A's outlying islands and the mainland.

The IAP/EIS contains four alternatives for a land management plan within the 8.8 million-acre planning area and assessments of each plan's impacts on the surface resources present there. These alternatives provide varying answers to three primary questions. First, will the BLM conduct oil and gas lease sales in the planning area and, if so, what lands will be made available for leasing? Second, what measures should we develop to protect important surface resources during oil and gas activities? Third, what non-oil and gas land allocations should we consider for this portion of the NPR-A?

The no action alternative calls for no change from the status quo, and under it no leasing would occur. Alternatives A through C make progressively less land, especially environmentally sensitive land, available to possible leasing. Alternative A makes 100 percent available, Alternative B makes 96 percent available, Alternative C makes 47 percent available. Stipulations would provide protection for natural and cultural resources under all alternatives, but their nature, number and scope would vary between alternatives.

Alternative A contains the fewest stipulations and many of them are performance based and reliant on subsequent NEPA analysis. Alternative B's stipulations are similar to those in Alternative A, but some surface occupancy protections are tied to areas of sensitive resources. Alternative C has more prescriptive stipulations, many of which are tied to areas associated with sensitive resources.

The Secretary of the Interior is authorized to identify specific lands in the NPR-A as “Special Areas,” and there are small parts of two previously designated Special Areas within the planning area. Alternative B recommends that the Kasegaluk Lagoon, an area that is rich in wildlife and that features marine tidal flats which are rare on the North Slope, as an additional Special Area.

Alternative C recommends that Congress designate three wilderness areas within the planning area. The first is the Kasagaluk Lagoon. The second and third areas are located in the hills and mountains in the southern part of the planning area and have special values, are particularly remote, and feature good hiking and scenic vistas in high terrain. Alternative C also recommends Congressional designation of the part of the Colville River in the planning area as a Wild river and that 21 other rivers in the unit be designated as Scenic.

Section 810 of the Alaska National Lands Conservation Act requires BLM to evaluate the effects of the alternative plans presented in this IAP/EIS on subsistence activities in the planning area, and to hold public hearings if it finds that any alternative might significantly restrict subsistence activities. Appendix 5 of the document indicates that alternatives A and B may significantly restrict subsistence activities. In addition, all alternatives may significantly restrict subsistence in the cumulative case. Therefore, the BLM is holding public hearings on subsistence in conjunction with the public meetings discussed below.

ADDRESSES: Written comments should be sent to the NPR-A Planning Team, Bureau of Land Management, Alaska State Office (931), 222 West 7th Avenue, Anchorage, Alaska 99513-7599. Comments can also be submitted at the project Web site at www.ak.blm.gov/nwnpra or sent via e-mail to nwnpr-acomment@ak.blm.gov. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety. The draft IAP/EIS will be available in either hard copy or on compact disk at the Alaska State Office, Public Information Center at 222 West 7th Avenue, Anchorage, Alaska 99513-7599. Copies of the draft IAP/EIS will also be available for pubic review at the following locations: Tuzzy Public Library, Barrow, Alaska; City of Nuiqsut, Nuiqsut, Alaska; City of Atqasuk, Atqasuk, Alaska; City of Anaktuvuk Pass, Anaktuvuk Pass, Alaska; City of Wainwright, Wainwright, Alaska; and City of Point Lay, Point Lay, Alaska. The entire document can also be reviewed at the project Web site at http://www.ak.blm.gov/nwnpra.

DATES: Written comments on the draft IAP/EIS will be accepted for 60 days following the date the Environmental Protection Agency publishes the Notice of Availability in the Federal Register. Future meetings or hearings and any other public involvement activities will be announced at least 15 days in advance through public notices, media news releases, and/or mailings. The BLM currently plans to hold meetings and hearings in Nuiqsit, Atqasuk, Barrow, Wainwright, Point Lay, Fairbanks, and Anchorage.

FOR FURTHER INFORMATION CONTACT: Curt Wilson, BLM Alaska State Office, 907-271-5546 or Mike Kleven, BLM Northern Field Office, 907-474-2317.

SUPPLEMENTARY INFORMATION: Authority for developing this document is derived from the Federal Land Policy and Management Act, the Naval Petroleum Reserves Production Act of 1976, as amended, and the National Environmental Policy Act (NEPA). In recent years, oil and gas development has gradually moved east from the original find at Prudhoe Bay. By the late 1990's, there was a developable field at Alpine just to the east of the of NPR-A. In 1998, responding to interest from industry, the State of Alaska and the North Slope Borough, the BLM developed the Northeast NPR-A IAP/EIS which authorized a leasing program within the northeastern part of the Reserve.

The document determined where and under what conditions a leasing program could occur. Since that time, two lease sales have been conducted. The first was held in May 1999 and 867,721 acres were leased bringing in $104.6 million. A second lease sale was held in June 2002 and 579,269 acres were leased for a total of $63.8 million. This level of interest, and the fact that industry has announced the discovery of oil in three test wells within the leased area, has stimulated interest in expanding exploration to the area covered by this draft IAP/EIA. President Bush responded to this interest by identifying the area as having a high priority in his energy plan. Should the BLM undertake leasing in the Northwest NPR-A, this IAP/EIS will form the basic NEPA documentation to authorize this leasing, and it will determine those lands that are available and those that are unavailable for leasing.

Public participation has occurred throughout the period since the Notice of Intent to Prepare an EIS was published in November 2001. Scoping meetings were held in Nuiqsit, Atqasuk, Barrow, Wainwright, Point Lay, Fairbanks, and Anchorage. The planning area provides particularly important habitat for caribou, waterfowl, and other species. Many of the local residents of the area rely on harvesting these resources for subsistence purposes. Ensuring adequate protection of these resources has been one of the main focuses of public discussion in scoping meetings. The BLM has worked very closely with the North Slope Borough and the State of Alaska in developing this draft IAP/EIS. The Mineral Management Service of the Department of the Interior has also assisted the BLM in developing the document.

Dated: November 22, 2002.
Henri R. Bisson,
State Director, Alaska.

[FR Doc. 03-680 Filed 1-16-03; 8:45 am]

BILLING CODE 4310-JA-P